DEPARTMENT OF JUSTICE

Notice of Lodging of Consent Decree Pursuant to the Comprehensive Environmental Response, Compensation and Liability Act

In accordance with the policy of the Department of Justice, notice is hereby given that a proposed consent decree in United States v. Michigan Consolidated Gas Co., Civ. No. 01-70007, was lodged with the United States District Court for the Eastern District of Michigan, on January 2, 2001. That action was brought against defendant pursuant to the Comprehensive Environmental Response, Compensation and Liability Act (CERCLA) for payment of past costs incurred, and future costs to be incurred, by the United States at the Lower Ecorse Creek Superfund Site in Wyandotte, Michigan. This decree requires the defendant to pay $230,000.00 in satisfaction of the United States' claims against it for response costs incurred and to be incurred in connection with the site.

The Department of Justice will receive comments relating to the proposed consent decree for a period of 30 days from the date of this publication. Comments should be addressed to the Assistant Attorney General of the Environment and Natural Resources Division, Department of Justice, Washington, DC 20530. All comments should refer to United States v. Michigan Consolidated Gas Co., D.J. Ref. 90-11-3-1744.

The proposed consent decree may be examined at the office of the United States Attorney for the Eastern District of Michigan, 211 W. Fort Street, Suite 2001, Detroit, MI 48226-3211; and at the Region V office of the Environmental Protection Agency, 77 West Jackson Boulevard, Chicago, Illinois 60604-3590. A copy of the proposed consent decree may be obtained in person or by mail from the Department of Justice Consent Decree Library, PO Box 7611, Washington, DC 20044-7611. In requesting a copy, please enclose a check in the amount of $4.25 (25 cents per page reproduction costs) payable to the Consent Decree Library. When requesting a copy, please refer to United States v. Michigan Consolidated Gas Co., D.J. Ref. 90-11-3-1744.

Bruce S. Gelber,
Chief, Environmental Enforcement Section, Environment and Natural Resources Division.

[FR Doc. 01-926 Filed 1-10-01; 8:45 am]

BILLING CODE 4410-15-M